DEPARTMENT OF THE INTERIOR

Bureau of Land Management

[UT-930-07-1320-00]

Release of Coal Exploration License Data, UTU-48608

ACTION: Notice of determination to allow public access to data from coal exploration license UTU-48608.

SUMMARY: BLM regulations at 43 CFR 2.22 and 3410.4(b) provide that data obtained under an exploration license will be kept confidential until the lands have been leased or BLM determines that public access to the data would not damage the competitive position of the licensee, whichever comes first. Coal exploration License UTU-48068 was issued to Royal Land Company on August 4, 1981. Exploration on this license included drilling 15 holes in the vicinity of North Horn Mountain, Emery County, Utah. The lands covered by this license were offered for lease on May 29, 1982, and no bids were received. Since May 29, 1982, no application has been made for a lease on these lands in accordance with 43 CFR 3425. The coal interests in part of the lands contained within UTU-48068 were transferred to the State of Utah pursuant to the provisions of the Utah Schools and Lands Exchange Act of 1998.

On December 19, 1996, BLM published its preliminary determination that release of the data would not damage the competitive position of the licensee or any participants in the Federal Register (61 FR 67061). Only one company responded with an assertion that their competitive position would be harmed by the release of the data. Shortly after this response, the respondent divested themselves of their coal interests. On August 18, 1999, a letter was sent to their apparent successor-in-interest to enable them to provide any further information in support of an assertion that they might be harmed by BLM's release of the data. Their August 29, 1999, response expressed a desire to maintain confidentiality of the data but provided no information to support any assertion that their competitive position would be harmed by BLM allowing the data to become public. Therefore, in accordance with 43 CFR 3410.4(b), BLM has determined that the data acquired by Royal Land Company and any participants in coal exploration license UTU-48608 can be made public without damage to the competitive position of the licensee or any participants. The coal exploration data, including drill hole logs and coal quality analyses, will be made public effective 30 days from publication of this notice. This decision may be appealed to the Interior Board of Land Appeals, Office of the Secretary, in accordance with the regulations contained in 43 CFR, Part 4. If an appeal is taken, your notice of appeal must be filed with the Bureau of Land Management, Utah State Office, P.O. Box 45155, Salt Lake City, Utah 84145-0155 within 30 days from publication of this notice. The appellant has the burden of showing that the decision appealed from is in error. If you wish to file a petition (pursuant to regulation 43 CFR 4.21)(58 FR 4939, January 19, 1993)(request) for a stay (suspension) of the effectiveness of this decision during the time that your appeal is being reviewed by the Board, the petition for a stay must accompany your notice of appeal. A petition for a stay is required to show sufficient justification based on the standards listed below. Copies of the notice of appeal and petition for a stay must be submitted to the Interior Board of Land Appeals and to the appropriate Office of the Solicitor (see 43 CFR 4.413) at the same time the original documents are filed in this office. If you request a stay, you have the burden of proof to demonstrate that a stay should be granted.

Standards for Obtaining a Stay

Except as otherwise provided by law or other pertinent regulation, a petition for a stay of a decision pending appeal shall show sufficient justification based on the following standards:

(1) The relative harm to the parties if the stay is granted or denied,

(2) The likelihood of the appellant's success on the merits,

(3) The likelihood of immediate and irreparable harm if the stay is not granted, and

(4) Whether the public interest favors granting the stay.

FOR FURTHER INFORMATION CONTACT: Douglas M. Koza, Deputy State Director Natural Resources, U.S. Bureau of Land Management, Utah State Office, P.O. Box 45155, Salt Lake City, Utah 84145-0155.

Dated: September 19, 2000.
Robert Lopez,
(Acting) Deputy State Director Natural Resources.

[FR Doc. 00-24529 Filed 9-22-00; 8:45 am]

BILLING CODE 4310-DQ-$$-M